DEPARTMENT OF ENERGY

Federal Energy Regulatory Commission

[Project No. 3071-008]

Blue Earth County; Notice of Application for Surrender of Exemption Accepted for Filing, Soliciting Comments, Motions To Intervene, and Protests

Take notice that the following hydroelectric application has been filed with the Commission and is available for public inspection:

a. Application Type: Application for surrender of exemption.

b. Project No: 3071-008.

c. Date Filed: March 18, 2025.

d. Applicant: Blue Earth County.

e. Name of Project: Rapidan Dam Hydroelectric Project.

f. Location: The project is located on the Blue Earth River, in Blue Earth County, approximately 10 miles south of Mankato, Minnesota. The project does not occupy any Federal lands.

g. Filed Pursuant to: Public Utility Regulatory Policies Act of 1978, 16 U.S.C. 2705, 2708.

h. Applicant Contact: Ryan Thilges, P.E., Public Works Director, Blue Earth County, 35 Map Drive, P.O. Box 3083, Mankato, MN 56002-3083. Phone (507) 304-4025 or ryan.thilges@blueearthcountymn.gov.

i. FERC Contact: Diana Shannon, (202) 502-6136, diana.shannon@ferc.gov.

j. Cooperating agencies: With this notice, the Commission is inviting Federal, State, local, and Tribal agencies with jurisdiction and/or special expertise with respect to environmental issues affected by the proposal, that wish to cooperate in the preparation of any environmental document, if applicable, to follow the instructions for filing such requests described in item l below. Cooperating agencies should note the Commission's policy that agencies that cooperate in the preparation of any environmental document cannot also intervene. See 94 FERC ¶ 61,076 (2001).

k. Water Quality Certification: A water quality certificate under section 401 of the Clean Water Act is required for this proposal from Minnesota Pollution Control Agency. The applicant must file no later than 60 days following the date of issuance of this notice either: (1) a copy of the request for water quality certification submitted to the Minnesota Pollution Control Agency; or (2) a copy of the water quality certification or evidence of waiver of water quality certification.

l. Deadline for filing comments, motions to intervene, and protests: May 2, 2025.

The Commission strongly encourages electronic filing. Please file comments, motions to intervene, and protests using the Commission's eFiling system at https://www.ferc.gov/docs-filing/efiling.asp. Commenters can submit brief comments up to 6,000 characters, without prior registration, using the eComment system at https://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the docket number P-3071-008. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

m. Description of Request: Blue Earth County filed an application to surrender the project on April 14, 2023, which was noticed for comment on May 5, 2023. Blue Earth County originally proposed to keep the dam and other project features in place. In June 2024, major flooding caused significant damage to project features including but not limited to the project dam's west abutment which resulted in the draining of the project reservoir. Blue Earth County has been working with Federal and State resource agencies since that time to revise its decommissioning plan. In its March 18, 2025 filing, Blue Earth County now proposes to remove the project dam and restore the west riverbank as part of surrender of the project. With this notice, Commission staff is soliciting comments, motions to intervene, and protests, on Blue Earth County's revised surrender application which effectively supersedes the original application filed on April 14, 2023.

n. Locations of the Application: This filing may be viewed on the Commission's website at https://www.ferc.gov using the “eLibrary” link. Enter the docket number excluding the last three digits in the docket number field to access the document. You may also register online at https://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, Tribal members, and others access publicly available information and navigate Commission processes. For public inquiries and assistance with making filings such as interventions, comments, or requests for rehearing, the public is encouraged to contact OPP at (202) 502-6595 or OPP@ferc.gov.

Dated: April 2, 2025.
Debbie-Anne A. Reese,
Secretary.

[FR Doc. 2025-06017 Filed 4-7-25; 8:45 am]

BILLING CODE 6717-01-P